DEPARTMENT OF AGRICULTURE

Agricultural Marketing Service

[Docket No: FV-06-331]

United States Standards for Grades of Processed Raisins

AGENCY: Agricultural Marketing Service, USDA.

ACTION: Advance notice of proposed rulemaking.

SUMMARY: The Agricultural Marketing Service (AMS), prior to undertaking research and other work associated with revising official grade standards, is soliciting comments on the petition to change the United States Standards for Grades of Processed Raisins. AMS received a petition from the Raisin Administrative Committee (RAC) requesting that USDA revise the current grade standards to add to and also modify the wording for “TYPE I—Seedless Raisins. The petitioner believes that revising the standards will provide for common language presently used by the industry.

DATES: Comments must be submitted on or before May 1, 2006.

ADDRESSES: Interested persons are invited to submit written comments concerning this notice. Comments must be sent to Karen L. Kaufman, Standardization Section, Processed Products Branch, Fruit and Vegetable Programs, Agricultural Marketing Service, U.S. Department of Agriculture, 1400 Independence Avenue SW., Room 0709, South Building; STOP 0247, Washington, DC 20250; telephone (202) 720-4693; fax (202) 690-1527, e-mail karen.kaufman@usda.gov. The United States Standards for Grades of Processed Raisins is available either through the address cited above or by accessing the AMS Web site on the Internet at http://www.ams.usda.gov/fv/ppb.html. Any comments received regarding the notice will be posted at that site. Comments also will be available for public inspection in the above office during regular business hours.

FOR FURTHER INFORMATION CONTACT: Karen L. Kaufman, Telephone (202) 720-4693.

SUPPLEMENTARY INFORMATION:

Background

AMS received a petition from the Raisin Administrative Committee (RAC), requesting the revision of the United States Standards for Grades of Processed Raisins. These standards are issued under the Agricultural Marketing Act of 1946 (7 U.S.C. 1621—1627)

The petitioner is requesting that USDA revise the grade standards for section 52.1843 Summary of types (varieties) of processed raisins for Type-I Seedless Raisins. The revision would add the processed raisin type, “Vine-dried (without the application of drying chemicals or materials)” to the current summary as well as modify the type for “Dipped, Vine-dried, or similarly processed raisins” to “Dipped, Vine-dried, treated with drying chemicals or materials or similarly processed raisins.”

Prior to undertaking detailed work to develop a proposal, AMS is soliciting comments on the petition to revise the U.S. Standards for Grades of Processed Raisins.

This notice provides for a 60-day comment period for interested parties to comment on the petition to develop a proposed revision of the standards. Should AMS conclude that there is a need for changes to the standards, detailed work could be undertaken as soon as possible and the eventual proposed revised standard would be published in the Federal Register with a request for comments in accordance with 7 CFR part 36.

Authority: 7 U.S.C. 1621-1627.

Dated: February 23, 2006.
Lloyd C. Day,
Administrator, Agricultural Marketing Service.

[FR Doc. E6-2770 Filed 2-27-06; 8:45 am]

BILLING CODE 3410-02-P